DEPARTMENT OF JUSTICE

Notice of Lodging of Consent Decree Under the Comprehensive Environmental Response, Compensation, and Liability Act

Notice is hereby given that on November 8, 2007, a proposed Consent Decree in United States v. American Standard Inc., et al., Civil Action No. 1:07 CV 05334 (RBK), was lodged with the United States District Court for the District of New Jersey.

The proposed Consent Decree will settle the United States' claims on behalf of the U.S. Environmental Protection Agency (“EPA”) under sections 106 and 107 of the Comprehensive Environmental Response, Compensation and Liability Act (“CERCLA”), 42 U.S.C. 9606 and 9607, against all of the defendants in United States v. American Standard Inc., et. al., Civil Action No. 1:07 CV 05334 (RBK), for performance of the soils remedy and recovery of past United States response costs relating to the Martin Aaron Superfund Site (“Martin Aaron Site” or “Site”), in Camden, New Jersey. The proposed Consent Decree will also settle the claims of the New Jersey Department of Environmental Protection (“NJDEP”), the Commissioner of NJDEP as Trustee for Natural Resources, and the Administrator of the New Jersey Spill Compensation Fund (“State Plaintiffs”) under CERCLA and State law against these same defendants in a related complaint filed on behalf of the State Plaintiffs in the United States District Court for the District of New Jersey, for performance of the soils remedy, recovery of State past costs, and payment for State natural resource damages relating to the Site.

The settling defendants consist of eleven Settling Performing Defendants and thirty one Settling Non Performing Defendants. The eleven Settling Performing Defendants are: American Standard Inc., Ashland Inc., Atlantic Richfield Company, BP Lubricants USA Inc., Brenntag Northeast Inc., Clean Earth of North Jersey, Inc., Crown Cork & Seal Company, Inc., E.I. duPont de Nemours & Co., Exxon Mobil Corporation, Quaker City Inc., and Rohm and Haas Company. The thirty one Settling Non-Performing Defendants are: 3M Company, American Inks and Coatings Corp., Avery Dennison Corporation, The Boeing Company, BTA North East Inc., Chevron Environmental Management Company, Continental Holdings Inc., FMC Corporation, General Motors Corporation, Goodall Rubber Company, Gould, Inc., Hatco Corporation, Loos & Dilworth, Inc., Mack Trucks, Inc., Marisol, Inc., New England Container Company, Inc., Novelis Corporation, Occidental Chemical Corporation, Owens Corning, Prior Coated Metals, Inc., Reichhold, Inc., Rexam Beverage Can Company, RÜTGERS Organics Corp., The Sherwin-Williams Company, Simpson Paper Company, Southeastern Pennsylvania Transportation Authority, Stepan Company, Stevens Industries, Inc., Sun Chemical Corporation, Union Carbide Corporation, and Wyeth.

Pursuant to the Consent Decree, the Settling Performing Defendants will perform Phase 1 of the Remedial Action for the Martin Aaron Site, consisting primarily of soils remediation work, and will receive approximately $5,504,000 from the Settling Non Performing Defendants to offset the costs of the work. In addition, the Performing Settling Defendants will pay the United States $156,680 for past costs and pay the State Plaintiffs $1,300,000 for past costs and $175,898 for State natural resource damages. The Consent Decree also resolves the matters addressed in the Consent Decree with regard to the Defense Department (“Settling Federal Agency”). Pursuant to the Consent Decree, the United States, on behalf of the Settling Federal Agency, will pay the Settling Performing Defendants $172,500 towards the performance of Phase 1 of the Remedial Action.

The Department of Justice will receive for a period of thirty (30) days from the date of this publication comments relating to the proposed Consent Decree. Comments should be addressed to the Assistant Attorney General, Environment and Natural Resources Division, and either e-mailed to pubcomment-ees.enrd@usdoj.gov or mailed to P.O. Box 7611, U.S. Department of Justice, Washington, DC 20044-7611, and should refer to United States v. American Standard Inc., et. al., Civil Action No. 1:07 CV 05334 (RBK), D.J. Ref. 90-11-3-08678.

The proposed Consent Decree may be examined at the Office of the United States Attorney, District of New Jersey, Camden Federal Building & U.S. Courthouse, 401 Market Street, Camden, NJ 08101 (contact Paul A. Blaine) and at the United States Environmental Protection Agency, Region II, 290 Broadway, New York, New York 10007-1866 (contact Michael J. van Itallie). During the public comment period, the proposed Consent Decree may also be examined on the following Department of Justice Web site, http://www.usdoj.gov/enrd/Consent_Decrees.html. A copy of the proposed Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. If requesting a copy by mail from the Consent Decree Library, please enclose a check in the amount of $64.75 ($0.25 per page reproduction cost) payable to the United States Treasury or, if requesting by e-mail or fax, forward a check in that amount to the Consent Decree Library at the stated address. If requesting a copy exclusive of exhibits and defendants' signatures, please enclose a check in the amount of $17.50 ($0.25 per page reproduction cost) payable to the United States Treasury.

Maureen M. Katz,
Assistant Chief, Environmental Enforcement Section, Environment and Natural Resources Division.

[FR Doc. 07-5784 Filed 11-21-07; 8:45 am]

BILLING CODE 4410-15-M